DEPARTMENT OF HEALTH AND HUMAN SERVICES

Office of the Secretary

Statement of Organization, Functions, and Delegations of Authority; Office of The National Coordinator for Health Information Technology

The Department of Health and Human Services is reorganizing the role and function of the Assistant Secretary for Administration to move technology and data policy and strategy functions from that office to the Office of National Coordinator for Health Information Technology.

Under this reorganization, technology and data policy and strategy functions are moving from the Office of the Assistant Secretary for Administration (ASA) to the Office of the National Coordinator for Health IT (ONC), including moving the Office of the Chief Data Officer, Office of the Chief AI Officer, and a newly recreated Chief Technology Officer. ONC would be dually titled to the Assistant Secretary for Technology Policy and Office of the National Coordinator for Health Information Technology.

Part A, Office of the Secretary, Statement of Organization, Functions, and Delegations of Authority for the Department of Health and Human Services, Chapter AR, Office of the National Coordinator for Health Information Technology (ONC), as last amended at 83 FR 19289 (May 2, 2018), 79 FR 31941 (June 3, 2014), 77 FR 29349—50 (May 17, 2012), 76 FR 65196 (Oct. 20, 2011), 76 FR 6795 (Feb. 8, 2011), 75 FR 49494 (Aug. 13, 2010), 74 FR 62785-86 (Dec. 1, 2009), 70 FR 48718-03 (Aug. 19, 2005) is amended. The prior Federal Register Notice is amended as follows:

I. Under AR.10, Organization, delete all of components and replace with the following:

A. Immediate Office of the Assistant Secretary for Technology Policy/National Coordinator (ARA)

B. Office of Policy (ARI)

C. Office of Standards, Certification, and Analysis (ARC)

D. Office of the Chief Operating Officer (ARE)

E. Office of the Chief Technology Officer

II. Delete AR.20, Functions, in its entirety and replace with the following:

Section AR.20, Functions

A. Immediate Office of the Assistant Secretary for Technology Policy/National Coordinator: The Immediate Office (IO) is headed by the Assistant Secretary for Technology Policy (dually titled as the National Coordinator for Health IT) (henceforth referred to as the Assistant Secretary), who provides leadership and executive and strategic direction for the dually titled Office of the Assistant Secretary for Technology Policy/Office of the National Coordinator for Health IT (henceforth referred to as ASTP). The Assistant Secretary is responsible for carrying out ASTP's mission and implementing the functions of the organization. The IO/ASTP (1) advances the interoperability of health information as central and foundational to the core mission of HHS to enhance and protect the health and well-being of all Americans; (2) ensures that health information technology initiatives for health and human services are coordinated across HHS programs, including aligning health information technology investments; (3) ensures that the health information technology policy and programs of HHS are coordinated with those of relevant executive branch agencies (including Federal commissions and advisory committees) with a goal of avoiding duplication of effort and of helping to ensure that each agency undertakes activities primarily within the areas of its greatest expertise and technical capability; (4) leads the efforts to promulgate health IT regulations that advance interoperability across the entire health care sector, including across behavioral health, human services, and public health sectors ; (5) leads Federal and industry efforts to advance the access, exchange, and use of health information across the healthcare sector.

The Principal Deputy Assistant Secretary for Technology Policy/Principal Deputy National Coordinator (henceforth referred to as the Principal Deputy Assistant Secretary), a part of the IO, works with and reports directly to the Assistant Secretary and is responsible for supporting the Assistant Secretary in day-to-day operations and strategy for ASTP, and staff management of the organization. The Principal Deputy Assistant Secretary serves as the Principal Deputy National Coordinator and is a career senior executive service position that in conjunction with the Assistant Secretary provides executive oversight for the activities of ASTP offices.

The Deputy Assistant Secretary for Technology Policy/Deputy National Coordinator (henceforth referred to as the Deputy Assistant Secretary) works with and reports directly to the Assistant Secretary. The Deputy Assistant Secretary serves as the Chief Operating Officer and is a career senior executive service position. The Deputy Assistant Secretary is responsible for day-to-day operations and strategy for ASTP agency-wide business management functions as well as providing executive oversight in conjunction with the Assistant Secretary and Principal Deputy Assistant Secretary.

a. Office of Policy: The Office of Policy is headed by an Associate Deputy Assistant Secretary who serves as the Executive Director of the Office of Policy. The Associate Deputy Assistant Secretary/Executive Director of the Office of Policy is a career senior executive service position. This office is responsible for: (1) policy and rulemaking activities, including implementation of provisions included in the Health Information Technology for Economic and Clinical Health Act (HITECH) and the 21st Century Cures Act; (2) ASTP's domestic and global policy initiatives; (3) coordination with executive branch agencies, Federal commissions, advisory committees, and external partners; (4) advanced analysis and the establishment of health information technology policies for ASTP and the Department to support health and human services initiatives, including in the areas of behavioral health, care transformation, health IT investment alignment, human services, information blocking, interoperability, privacy and security, and quality improvement; and (5) operation of the Health Information Technology Advisory Committee established in the 21st Century Cures Act.

b. Office of Standards, Certification, and Analysis: The Office of Standards, Certification, and Analysis is headed by an Associate Deputy Assistant Secretary who serves as the Executive Director of the Office of Standards, Certification, and Analysis. The Associate Deputy Assistant Secretary/Executive Director of the Office of Standards, Certification, and Analysis is a career senior executive service position.

This office is responsible for (1) executing provisions included in the HITECH Act and the 21st Century Cures Act; (2) providing technical leadership and coordination within the health IT community to identify, evaluate, and influence the development of standards, implementation guidance, and best practices to advance nationwide interoperability for health and human services initiatives; (3) coordinating with Federal agencies and other public and private partners to implement and advance interoperability nationwide for health and human services initiatives; (4) leading the development of electronic testing tools, resources, and data to achieve interoperability, enhanced usability, and aid in the optimization of health IT; (5) administering the ASTP Health IT Certification Program, including the Certified Health IT Product List (CHPL); and (6) leading ASTP's technical interoperability interests and investments to advance the development of innovative solutions for interoperability.

D. The Office of the Chief Operating Officer: The Office of the Chief Operating Officer is headed by an Associate Deputy Assistant Secretary who serves as the Executive Director of the Office of the Chief Operating Officer. The Associate Deputy Assistant Secretary/Executive Director of the Office of the Chief Operating Officer is a career senior executive service position. The Office of the Chief Operating Officer is responsible for: (1) managing enterprise risk and formulating solutions to ensure ASTP has the resources to achieve its mission and goals; (2) ensuring fiscal integrity and adherence to federal laws and regulations; (3) providing centralized, agency-wide strategy and services including: budget and financial management; grants management; acquisitions management; human capital; information technology; cybersecurity; facilities management; ethics; and records management.

E. Office of the Chief Technology Officer: The Office of the Chief Technology Officer is headed by an Associate Deputy Assistant Secretary who serves as the Chief Technology Officer. The Associate Deputy Assistant Secretary/Chief Technology Officer is a career senior executive service position. The Office of the Chief Technology Officer includes the Office of the Chief Artificial Intelligence Officer and the Office of the Chief Data Officer. This office is responsible for: (1) implementing the HITECH Act and 21st Century Cures Act; (2) leading HHS-wide digital strategy and digital services and project teams for health and human services programs; (3) developing and leading HHS-wide data policy, including program strategies, stewardship, and privacy and security initiatives; (4) anticipating key technology and data policy needs in cross-agency and external mission areas in order to proactively respond to industry changes; (5) providing strategic leadership to health and human services initiatives and the industry at large on novel technologies, including ethical, legal, and social matters; (6) coordinating and facilitating a culture of innovation within HHS programs that encourages experimentation, supports research and development efforts, and promotes the adoption of new technologies.

III. Delegation of Authority.

Pending further delegation, directives, or orders by the Secretary or by the Assistant Secretary for Technology Policy/National Coordinator all delegations and redelegations of authority made to officials and employees of affected organizational components will continue in them or their successors pending further redelegations, provided they are consistent with this reorganization.

Xavier Becerra,
Secretary, U.S. Department of Health and Human Services.

BILLING CODE 4150-24-P

[FR Doc. 2024-16571 Filed 7-25-24; 8:45 am]

BILLING CODE 4150-24-C